ENVIRONMENTAL PROTECTION AGENCY

40 CFR Parts 141 and 142

[FRL-7571-7]

RIN 2040-AD37

National Primary Drinking Water Regulations: Long Term 2 Enhanced Surface Water Treatment Rule; Extension of Comment Period

AGENCY: Environmental Protection Agency.

ACTION: Extension of comment period.

SUMMARY: The Environmental Protection Agency (EPA) is extending by 60 days the public comment period for a proposed National Primary Drinking Water Regulation, the Long Term 2 Enhanced Surface Water Treatment Rule (LT2ESWTR), which was published in the Federal Register on August 11, 2003. This extended comment period will afford greater opportunity to all interested parties to review and submit comments on the proposal.

DATES: Comments must be received on or before January 9, 2004.

ADDRESSES: Comments may be submitted by mail to: Water Docket, Environmental Protection Agency, Mail Code 4101T, 1200 Pennsylvania Ave., NW., Washington, DC 20460, Attention Docket ID No. OW-2002-0039. Comments may also be submitted electronically or through hand delivery/courier by following the instructions provided in the SUPPLEMENTARY INFORMATION section.

FOR FURTHER INFORMATION CONTACT: For technical inquiries, contact Daniel Schmelling, Office of Ground Water and Drinking Water (MC 4607M), U.S. Environmental Protection Agency, 1200 Pennsylvania Ave., NW., Washington, DC 20460; telephone (202) 564-5281. For general information contact the Safe Drinking Water Hotline, Telephone (800) 426-4791. The Safe Drinking Water Hotline is open Monday through Friday, excluding legal holidays, from 9 a.m. to 5:30 p.m., eastern standard time.

SUPPLEMENTARY INFORMATION: The comment period for the proposed LT2ESWTR now ends January 9, 2004. This is an extension of 60 days beyond the comment period established in the Federal Register on August 11, 2003. Anyone seeking to submit comments must follow the procedures specified in section I.C. of the proposal as published in the Federal Register (68 FR 47640, August 11, 2003).

The LT2ESWTR applies to all public water systems that use surface water or ground water under the direct influence of surface water. This proposed regulation would establish additional risk-targeted treatment requirements for Cryptosporidium. It also contains provisions to address risks associated with uncovered finished water storage facilities and to ensure systems maintain microbial protection as they take steps to reduce the formation of disinfection byproducts. See the proposal as published in the Federal Register (68 FR 47640, August 11, 2003) for information regarding public health concerns, proposed regulatory requirements, implementation schedules, estimated costs and benefits, implementation tools, and other issues.

Dated: October 2, 2003.
Michael H. Shapiro,
Deputy Assistant Administrator, Office of Water.

[FR Doc. 03-25546 Filed 10-7-03; 8:45 am]

BILLING CODE 6560-50-P